DEPARTMENT OF DEFENSE

Office of the Secretary

[Transmittal Nos. 13-73]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-73 with attached transmittal, policy justification, and Sensitivity of Technology.

Dated: January 15, 2014.
Aaron Siegel,
Alternate OSD Federal Register Liaison Officer, Department of Defense.

BILLING CODE 5001-06-P

Transmittal No. 13-73

Notice of Proposed Issuance of Letter of Offer Pursuant to Section 36(b)(1) of the Arms Export Control Act (AECA), as amended

(i) Prospective Purchaser: Israel

(ii) Total Estimated Value:

Major Defense Equipment * | $.589 billion
Other | .541 billion
Total | 1.130 billion
* as defined in Section 47(6) of the Arms Export Control Act.

(iii) Description and Quantity or Quantities of Articles or Services Under Consideration for Purchase: 6 V-22B Block C Aircraft, 16 Rolls Royce AE1107C Engines, 6 AN/APR-39 Radar Warning Receiver Systems, 6 AN/ALE-47 Countermeasure Dispenser Systems, 6 AN/AAR-47 Missile Warning Systems, 6 AN/APX-123 Identification Friend or Foe Systems, 6 AN/ARN-153 Tactical Airborne Navigation Systems, 6 AN/ARN-147 Very High Frequency (VHF) Omni-directional Range (VOR) Instrument Landing System (ILS) Beacon Navigation Systems, 6 Multi-Band Radios, 6 AN/APN-194 Radar Altimeters, 6 AN/ASN-163 Miniature Airborne Global Positioning System (GPS) Receivers (MAGR), 36 AN/AVS-9 Night Vision Goggles, Joint Mission Planning System, support and test equipment, software, repair and return, aircraft ferry services, tanker support, spare and repair parts, publications and technical documentation, personnel training and training equipment, U.S. Government and contractor engineering and technical support, and other elements of technical and program support.

(iv) Military Department: Navy (SCD).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 13 January 2014.

POLICY JUSTIFICATION

Israel—V-22B Block C Aircraft

The Government of Israel (GOI) has requested a possible sale of 6 V-22B Block C Aircraft, 16 Rolls Royce AE1107C Engines, 6 AN/APR-39 Radar Warning Receiver Systems, 6 AN/ALE-47 Countermeasure Dispenser Systems, 6 AN/AAR-47 Missile Warning Systems, 6 AN/APX-123 Identification Friend or Foe Systems, 6 AN/ARN-153 Tactical Airborne Navigation Systems, 6 AN/ARN-147 Very High Frequency (VHF) Omni-directional Range (VOR) Instrument Landing System (ILS) Beacon Navigation Systems, 6 Multi-Band Radios, 6 AN/APN-194 Radar Altimeters, 6 AN/ASN-163 Miniature Airborne Global Positioning System (GPS) Receivers (MAGR), 36 AN/AVS-9 Night Vision Goggles, Joint Mission Planning System, support and test equipment, software, repair and return, aircraft ferry services, tanker support, spare and repair parts, publications and technical documentation, personnel training and training equipment, U.S. Government and contractor engineering and technical support, and other elements of technical and program support. The estimated cost is $1.13 billion.

The United States is committed to the security of Israel, and it is vital to U.S. national interests to assist Israel to develop and maintain a strong and ready self-defense capability. This proposed sale is consistent with those objectives.

The proposed sale of V-22B aircraft will enhance and increase the Israel Defense Forces' search and rescue and special operations capabilities. The V-22B provides the capability to move personnel and equipment to areas not accessible by fixed wing lift assets. The GOI will have no difficulty absorbing this technology into its current aircraft inventory.

The proposed sale of these aircraft will not alter the basic military balance in the region.

The principal contractors involved with this proposed sale will be Bell and Boeing in California, MD via a joint venture arrangement with final aircraft assembly occurring in Amarillo, TX. There are no known offset agreements in connection with this potential sale.

Implementation of this proposed sale will require travel of up to thirty (30) U.S. Government or contractor representatives to Israel on a temporary basis for program technical support and management oversight.

There will be no adverse impact on U.S. defense readiness as a result of this proposed sale.

Transmittal No. 13-73

Notice of Proposed Issuance of Letter of Offer Pursuant to Section 36(b)(1) of the Arms Export Control Act, as amended

Annex

Item No. vii

(vii) Sensitivity of Technology:

1. The V-22B Osprey is a multi-mission, military, tiltrotor aircraft with both a Vertical Takeoff and Landing (VTOL), and Short Takeoff and Landing (STOL) capability. It is designed to combine the functionality of a conventional helicopter with the long-range, high-speed cruise performance of a turboprop aircraft. The V-22B, including the mission equipment, is classified up to Secret.

a. The AN/APR-39 Radar Warning Receiver (RWR) System monitors the environment for pulsed radar signals, characterizes and identifies them, and alerts the crew to the existence of emitters. The AN/APR-39 contributes to full-dimensional protection by improving individual aircraft probability of survival through improved aircrew situational awareness of the electromagnetic threat environment. These systems have specific aircraft application and provide varying levels and types of warning so as to allow aircraft crews to take evasive maneuvers or deploy active countermeasures.

b. The AN/ALE-47 Countermeasures Dispenser System (CMDS) is an Electronic Warfare (EW) System affording combat aircrews with enhanced survivability in all threat environments via onboard self-protection capabilities when integrated with the RWR system. The AN/ALE-47 CMDS provides the aircrew with a “smart” countermeasures dispensing system, allowing the aircrew to optimize the countermeasures employed against anti-aircraft threats. The system consists of five major components and several sub-components: control display units, programmers, safety switches, sequencers, and dispensers.

c. The AN/AAR-47 is an EW system designed to protect aircraft against Infrared-Guided (IR) missile threats, laser-guided/laser-aided threats, and unguided munitions. Upon detection of the threat, the system will provide an audio and visual sector warning to the pilot. For IR missile threats, the system automatically initiates countermeasures by sending a command signal to the CMDS. The AN/AAR-47 includes sensor pre-processing for improved performance in high-clutter environments.

d. The AN/APX-123 is an Identification Friend or Foe digital transponder and is also used for the safe operation of military aircraft in civilian airspace. The AN/APX-123 meets all United States and North Atlantic Treaty Organization (NATO) mode 5 requirements.

e. The AN/ARN-153 is a full featured Tactical Air Navigation (TACAN) capable of supporting the operational requirements of high performance aircraft in a lightweight compact design. The AN/ARN-153 supports four modes of operation: receive mode; transmit-receive mode; air-to-air receive mode; and air-to-air transmit-receive mode.

f. The AN/ARN-147 system combines all VHF Omni Ranging/Instrument Landing System (VOR/ILS) functions into one compact, lightweight, low-cost set. It's the first militarized VHF navigation receiver to provide optional internal MIL-STD-1553B capability. The solid-state system is MIL-E-5400 class II qualified and meets international operability requirements by providing 50-kHz channel spacing for 160-VOR and 40-localizer/glide slope channels. Digital and analog outputs of the AN/ARN-147 ensure compatibility with high-performance flight control systems and both digital and analog instruments.

g. The AN/ARC-210 multimode integrated communications system is designed to provide multimode voice and data communications in either normal or jam-resistant modes in line-of-sight mode. The system is capable of establishing 2-way communication links over the 30 to 400 MHz frequency range with tactical aircraft environments. The ARC-210 is for airborne Single-Channel Ground and Airborne Radio System (SINCGARS) applications and implements the SINCGARS and Have Quick EP modes.

h. The AN/APN-194 Radar Altimeter Receiver-Transmitter is a high-resolution device which measures altitude from 0 to 5,000 ft. The radar altimeter measures the time (analogous to distance) required for a pulse of electromagnetic energy to travel from the aircraft to the ground and back to the aircraft. The output of the AN/APN-194 is fed into the autopilot of the aircraft to control the altitude of low-flying aircraft. The AN/APN-194 employs a narrow-pulse transmission in the C-band range with leading edge tracking of the echo pulse. Altitude range information is obtained by comparing the received echo pulse with a timed ramp voltage generated simultaneously with the transmitted pulse.

i. The AN/ASN-163 is a 5-channel Miniature Airborne GPS Receiver (MAGR) that provides Over-The-Horizon and secure navigation capabilities using satellite information.

j. The AN/AVS-9 is a dual tube night vision goggle. Third generation image intensifiers are standard for military night vision. The goggle offers high resolution, high gain, photo response to near infrared, and exceptional reliability. There are helmet mount configurations designed for fixed-wing and rotary-wing applications, adapting to most aviator helmets.

2. If a technologically advance adversary were to obtain knowledge of the specific hardware and software elements, the information could be used to develop countermeasures that might reduce weapon system effectiveness or be used in the development of a system with similar advanced capabilities.

3. A determination has been made that the GOI can provide substantially the same degree of protection for the sensitive technology being released as the U.S. Government. This sale is necessary in furtherance of the U.S. foreign policy and national security objectives as outlined in the Policy Justification.

4. All defense articles and services listed in this transmittal have been authorized for release and export to the Government of Israel.

[FR Doc. 2014-01063 Filed 1-17-14; 8:45 am]

BILLING CODE 5001-06-P